DEPARTMENT OF COMMERCE

United States Patent and Trademark Office

[Docket No. PTO-P-2011-0002]

Notice of Roundtable and Request for Comments on How To More Effectively Use the Patent and Trademark Depository Library Program

AGENCY: United States Patent and Trademark Office, Commerce.

ACTION: Notice of public meeting; request for comments.

SUMMARY: The United States Patent and Trademark Office (USPTO) wants to increase transparency by making USPTO information and materials more publicly available. USPTO information is currently disseminated through a variety of means, including through the Patent and Trademark Depository Library Program (PTDLP). The PTDLP allows the USPTO, through public laws, to partner with state and municipal libraries around the United States to develop core expertise in patents and trademarks to ensure that potential filers have local resources to draw on for assistance and support. The USPTO has undertaken an overall revitalization of the PTDLP to reflect the new 21st Century electronic approach to customer service. As part of this initiative, the USPTO is conducting a public roundtable to obtain input from organizations and individuals on current use of the Patent and Trademark Depository Libraries (PTDLs) and how to more effectively use the PTDLP in the future.

DATES: The first roundtable will be held on Tuesday, February 15, 2011, beginning at 1:30 p.m. Eastern Standard Time (EST) and ending at 3 p.m. EST.

The deadline for receipt of written comments is March 17, 2011.

ADDRESSES: The roundtable will be held at the USPTO in the Madison Auditorium on the concourse level of the Madison Building, which is located at 600 Dulany Street, Alexandria, Virginia 22314.

Written comments should be sent by electronic mail message over the Internet addressed to PTDL_comments@uspto.gov. Comments may also be submitted by mail addressed to: Mail Stop Comments—Patents, Commissioner for Patents, P.O. Box 1450, Alexandria, VA 22313-1450, marked to the attention of Elizabeth L. Dougherty. Although comments may be submitted by mail, the USPTO prefers to receive comments via the Internet.

The written comments and list of the roundtable participants and their associations will be available for public inspection at the Office of the Commissioner for Patents, located in the Madison East Building, Tenth Floor, 600 Dulany Street, Alexandria, Virginia, and will be available via the USPTO Internet Web site (address: http://www.uspto.gov). Because comments will be made available for public inspection, information that is not desired to be made public, such as an address or phone number, should not be included in the comments.

FOR FURTHER INFORMATION CONTACT: Martha Sneed, Office of Public Search Services Division, by telephone at (703) 756-1236, or by electronic mail message at martha.sneed@uspto.gov.

SUPPLEMENTARY INFORMATION: The PTDLP disseminates patent and trademark information and provides training and outreach support to a network of over 80 academic, public, state and special libraries, located in 45 states, the District of Columbia, and Puerto Rico. PTDLs provide walk-in, telephone, and Internet assistance for independent inventors, researchers, students, small- and medium-sized businesses and other members of the public across the United States.

The PTDLP has changed dramatically over the years, from being strictly a “depository” program, where the USPTO provided paper copies of patents and trademarks and support materials, to an electronic program, where data and materials are provided on-line and in computer-readable media. In addition to the array of USPTO search tools now available on the Web, every PTDL provides public access to PubWEST (Web-based Examiner Search Tool), providing the public with one of the same powerful search tools that patent examiners have.

Today's PTDLs provide free, personalized assistance to their communities on how to use the array of patent and trademark resources now available on the Web. As the USPTO has shifted to a paperless agency model, the PTDLP has assumed a greater role in the USPTO's overall outreach program. The PTDLP provides a ready-made network for USPTO policy makers and knowledgeable staff at those venues to help share information about USPTO and its many programs and initiatives. Today's PTDLs are no longer simply maintaining patent and trademark collections—i.e., they are no longer mere “depositories” of information—but are centers of innovation. Specially designated staff educate customers on how to perform preliminary prior art searches, provide classes in searching the USPTO Web site, show how to move their invention from inventive concept to the marketplace, show how to track down prior art disclosed in foreign patent publications and non-patent literature, and provide other individualized services.

The shift to electronic resources has enabled the PTDLP to more effectively train PTDL staff and the public to better use the tools and data available to them. More specifically, the USPTO trains PTDL staff, who, in turn, provide assistance and training to public customers. As the PTDLP continues to move away from the physical distribution of hard-copy information, the USPTO is interested in what types of new and different services the PTDLP of the future should offer its customers. PTDLs are the face of USPTO in their local communities. For this reason, the USPTO is seeking recommendations from stakeholders on the role they envision the PTDLs playing in the USPTO's outreach efforts, and how the PTDLP can be used to provide more effective communication and transparent information to its customers.

Toward that end, the USPTO is conducting a roundtable to obtain public input from organizations and individuals on the future character of the PTDLs. The number of participants in the roundtable is limited to ensure that all who are speaking will have a meaningful chance to do so. The USPTO plans to invite participants from patent user groups, practitioners, industry, independent inventor organizations, academia, and government. The roundtables are open to the public.

The USPTO will provide an agenda, list of known participants, and preparatory materials (if any) to the participants prior to the roundtable in order to focus the discussion and enhance the efficiency of the proceedings. All such materials will be posted on the USPTO's Internet Web site. The USPTO plans to make the roundtable available via Web cast. Web cast information will be available before the roundtable on the USPTO's Internet Web site. Any slides or handouts distributed at the roundtable and the list of the roundtable participants for the roundtable and their associations will also be posted on the USPTO's Internet Web site.

Dated: January 28, 2011.
David J. Kappos,
Under Secretary of Commerce for Intellectual Property and Director of the United States Patent and Trademark Office.

[FR Doc. 2011-2661 Filed 2-7-11; 8:45 am]

BILLING CODE 3510-16-P